DEPARTMENT OF AGRICULTURE

Agricultural Marketing Service

[Doc. No AMS-FGIS-21-0053]

United States Grain Standards Act Designation Opportunities and Request for Comments on Official Agencies Providing Services

AGENCY: Agricultural Marketing Service, USDA.

ACTION: Notice.

SUMMARY: United States Grain Standards Act (USGSA) designations of official agencies listed in SUPPLEMENTARY INFORMATION below will end on prescribed dates. We are seeking persons or governmental agencies interested in providing official services in areas presently served by these agencies to submit an application for designation. In addition, we request comments on the quality of services provided by the following designated agencies: Northeast Indiana Grain Inspection, Inc. (Northeast Indiana); State Grain Inspection, Inc. (State Grain); J.W. Barton Grain Inspection Service, Inc. (Barton); Farwell Commodity and Grain Services, Inc. (Farwell Southwest); Northern Plains Grain Inspection Service, Inc. (Northern Plains); Plainview Grain Inspection and Weighing Service, Inc. (Plainview); Sioux City Inspection and Weighing Service Company (Sioux City); and the Montana Department of Agriculture (Montana). The Agricultural Marketing Service (AMS) encourages submissions from traditionally underrepresented individuals, organizations, and businesses to reflect the diversity of this industry. AMS encourages submissions from qualified applicants, regardless of race, color, age, sex, sexual orientation, gender identity, national origin, religion, disability status, protected veteran status, or any other characteristic protected by law.

DATES: Applications and comments for areas of designation terminating on 12/31/2021 currently operated by Northeast Indiana and State Grain must be received by November 22, 2021.

Applications and comments for areas of designation terminating on 3/31/2022 currently operated by Barton, Farwell South, Northern Plains, Plainview, and Sioux City must be received between 11/1/2021 and 11/30/2021.

Applications and comments for areas of designation terminating on 6/30/2022 currently operated by Montana must be received between 1/3/2022 and 2/1/2022.

ADDRESSES: Submit applications and comments concerning this Notice using any of the following methods:

• To apply for USGSA Designation: Go to FGISonline and then click on the Delegations/Designations and Export Registrations (DDR) link. You will need to obtain an FGISonline customer number (CIM) and create a USDA eAuthentication account prior to applying.

• To submit Comments Regarding Current Designated Official Agencies: Go to Regulations.gov (http://www.regulations.gov). Instructions for submitting and reading comments are detailed on the site. Interested persons are invited to submit written comments concerning this notice. All comments must be submitted through the Federal e-rulemaking portal at http://www.regulations.gov and should reference the document number, date, and page number of this issue of the Federal Register. All comments submitted in response to this notice will be included in the record and will be made available to the public. Please be advised that the identity of individuals or entities submitting comments will be made public on the internet at the address provided above.

Read Applications and Comments: If you would like to view applications, please contact us at FGISQACD@usda.gov. All comments will be available for public inspection online at http://www.regulations.gov.

FOR FURTHER INFORMATION CONTACT: Austyn Hughes at FGISQACD@usda.gov or 816-266-5066.

SUPPLEMENTARY INFORMATION: Designations of official agencies listed below will end on the prescribed dates:

Official agency | Headquarters location and telephone | Designation end
Northeast Indiana Grain Inspection, Inc | Decatur, IN, 260-341-7497 | 12/31/2021
State Grain Inspection, Inc | Savage, MN, 952-808-8566 | 12/31/2021
J.W. Barton Grain Inspection Service, Inc | Owensboro, KY, 270-683-0616 | 3/31/2022
Farwell Commodity and Grain Services, Inc | Casa Grande, AZ, 520-560-1674 | 3/31/2022
Northern Plains Grain Inspection Service, Inc | Grand Forks, ND, 701-772-2414 | 3/31/2022
Plainview Grain Inspection and Weighing Service, Inc | Plainview, TX, 806-293-1364 | 3/31/2022
Sioux City Inspection and Weighing Service Company | Sioux City, IA, 712-255-0959 | 3/31/2022
Montana Department of Agriculture | Great Falls, MT, 406-452-9561 | 6/30/2022

Section 7(f) of the USGSA authorizes the Secretary to designate a qualified applicant to provide official services in a specified area after determining that the applicant is better able than any other applicant to provide such official services (7 U.S.C. 79(f)). A designated agency may provide official inspection services and/or Class X or Class Y weighing services at locations other than port locations. Under section 7(g) of the USGSA, designations of official agencies are effective for no longer than five years, unless terminated by the Secretary, and may be renewed according to the criteria and procedures prescribed in section 7(f) of the USGSA. See also, 7 CFR 800.196 for further information and guidance. Please note that sampling, weighing, and inspections conducted under the Agricultural Marketing Act of 1946 are conducted through cooperative agreements with AMS under the auspices of current official agency designation. See 7 U.S.C. 1621 et seq., as amended for further information.

Designation Application Locations

The following list identifies designated official agencies currently operating and specific areas of operation that are open for designation applications. Please review the additional information provided via separate Federal Register notice for complete understanding of locations needing service designation. These are listed in order of anticipated designation termination date.

Northeast Indiana: Areas of designation include parts of Indiana. Please see the December 12, 2016, issue of the Federal Register (81 FR 89428) for descriptions of areas open for designation.

State Grain: Areas of designation include parts of Minnesota. Please see the July 3, 2017, issue of the Federal Register (82 FR 30818-30819) for descriptions of areas open for designation.

Barton: Areas of designation include parts of Indiana, Kentucky, and Tennessee. Please see the March 22, 2017, issue of the Federal Register (82 FR 14676-14677) for descriptions of areas open for designation.

Farwell Southwest: Areas of designation include parts of Arizona and California. Please see the January 10, 2017, issue of the Federal Register (82 FR 2939) for descriptions of areas open for designation.

Northern Plains: Areas of designation include parts of Minnesota and North Dakota. Please see the March 22, 2017, issue of the Federal Register (82 FR 14676) for descriptions of areas open for designation.

Plainview: Areas of designation include parts of Texas. Please see the March 22, 2017, issue of the Federal Register (82 FR 14679) for descriptions of areas open for designation.

Sioux City: Areas of designation include parts of Iowa, Minnesota, Nebraska, and South Dakota. Please see the March 22, 2017, issue of the Federal Register (82 FR 14677) for descriptions of areas open for designation.

Montana: Area of designation includes April 17, 2017, issue of Montana. Please see the April 17, 2017, issue of the Federal Register (82 FR 18100) for descriptions of areas open for designation.

Opportunity for Designation

Interested persons or governmental agencies may apply for designation to provide official services in geographic areas of official agencies specified above under provisions of section 7(f) of the USGSA and 7 CFR 800.196. Designation in specified geographic areas for Northeast Indiana and State Grain begins January 1, 2022. Designation in specified geographic areas for Barton, Farwell Southwest, Northern Plains, Plainview, and Sioux City begins April 1, 2022. Designation in specified geographic areas for Montana begins July 1, 2022. To apply for designation or to request more information on geographic areas serviced by these official agencies, contact FGISQACD@usda.gov.

Request for Comments

We are publishing this Notice to provide interested persons the opportunity to comment on the quality of services provided by the Northeast Indiana, State Grain, Barton, Farwell Southwest, Northern Plains, Plainview, Sioux City, and Montana official agencies. In the designation process, we are particularly interested in receiving comments citing reasons and pertinent data supporting or objecting to the designation of the applicant(s). Such comments should be submitted through the Federal e-rulemaking portal at http://www.regulations.gov.

We consider applications, comments, and other available information when determining which applicants will be designated.

Authority: 7 U.S.C. 71-87k.

Erin Morris,
Associate Administrator, Agricultural Marketing Service.

[FR Doc. 2021-22995 Filed 10-20-21; 8:45 am]

BILLING CODE P